DEPARTMENT OF THE INTERIOR

National Park Service

[NPS-NCR-WHHO-WHHOA1-30405; PPNCWHHOA1; PPMPSPD1Z.YM0000]

Committee for the Preservation of the White House Notice of Public Meeting

AGENCY: National Park Service, Interior.

ACTION: Meeting notice.

SUMMARY: In accordance with the Federal Advisory Committee Act of 1972, the National Park Service (NPS) is hereby giving notice that the Committee for the Preservation of the White House (Committee) will meet as indicated below.

DATES: The meeting will take place on Monday, July 27, 2020. The meeting will begin at 10:00 a.m. until 11:30 a.m. (Eastern). A teleconference may substitute an in-person meeting if public health or safety restrictions are in effect.

ADDRESSES: The meeting will be held at the White House, 1600 Pennsylvania Avenue NW, Washington, DC 20500.

FOR FURTHER INFORMATION CONTACT: Comments may be provided to: John Stanwich, Executive Secretary, Committee for the Preservation of the White House, 1849 C Street NW, Room #1426, Washington, DC 20240, by telephone (202) 219-0322, or by email ncr_whho_superintendent@nps.gov.

SUPPLEMENTARY INFORMATION: The Committee has been established in accordance with Executive Order No. 11145, 3 CFR 184 (1964-1965), as amended. The Committee reports to the President of the United States and advises the Director of the NPS with respect to the discharge of responsibilities for the preservation and interpretation of the museum aspects of the White House pursuant to the Act of September 22, 1961 (Pub. L. 87-286, 75 Stat. 586).

Purpose of the Meeting: The agenda will include policies, goals, and long-range plans. If you plan to attend this meeting, you must register by close of business on Thursday, July 23, 2020. Please contact the Executive Secretary at ncr_whho_superintendent@nps.gov or phone (202) 219-0322 to register. Space is limited and requests will be accommodated in the order they are received.

The meeting will be open, but subject to security clearance requirements. The Executive Secretary will contact you directly with the security clearance requirements. Inquiries may be made by calling the Executive Secretary between 9:00 a.m. and 4:00 p.m. weekdays at (202) 219-0322.

Written comments may be sent to the Executive Secretary, Committee for the Preservation of the White House, 1849 C Street NW, Room #1426, Washington, DC 20240. All written comments received will be provided to the Committee.

Public Disclosure of Comments: Before including your address, phone number, email address, or other personal identifying information in your written comments, you should be aware that your entire comment—including your personal identifying information—may be made publicly available at any time. While you can ask us in your comment to withhold your personal identifying information from public review, we cannot guarantee that we will be able to do so.

(Authority: 5 U.S.C. Appendix 2)

Alma Ripps,
Chief, Office of Policy.

[FR Doc. 2020-13962 Filed 6-26-20; 8:45 am]

BILLING CODE 4312-52-P